FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR part 515.

License No. | Name/address | Date reissued
17305F | Distribution Support Systems, Inc., 6454 East Taft Road, East Syracuse, NY 13057 | January 15, 2004.
17053N | Top Container Line Inc., 2131 W. Willow Street, Suite 200, Long Beach, CA 90810 | November 8, 2003.

Sandra L. Kusumoto,
Director, Bureau of Consumer Complaints and Licensing.

[FR Doc. 04-1805 Filed 1-27-04; 8:45 am]

BILLING CODE 6730-01-P